DEPARTMENT OF COMMERCE

National Oceanic and Atmospheric Administration

RIN 0648-XE404 and 0648-XE486

Marine Mammals; File Nos. 18978 and 19768

AGENCY: National Marine Fisheries Service (NMFS), National Oceanic and Atmospheric Administration (NOAA), Commerce.

ACTION: Notice; issuance of permits.

SUMMARY: Notice is hereby given that permits have been issued to the following entities for research on marine mammal parts:

File No. 18978: Pam Miller, Alaska Community Action on Toxics, 505 West Northern Lights Blvd., Suite 205, Anchorage, AK 99503; and

File No. 19768: Evin Hildebrandt, Ph.D., University of Massachusetts Medical School, 55 Lake Avenue, S3-221, Worcester, MA 01655.

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: On March 8, 2016 (File No. 18978; 81 FR 12075) and March 11, 2016 (File No. 19768; 81 FR 12879), notices were published in the Federal Register that requests for permits to conduct research on marine mammal parts had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

File No. 18978 (Miller) authorizes the receipt and export of subsistence hunted marine mammal parts. Researchers will work with Yupik households and local hunters on St. Lawrence Island, Alaska, to obtain samples from up to 8 animals per year from ringed seal (Pusa hispida); bearded seal (Erignathus barbatus); and ribbon seal (Histriophoca fasciata) and 9 animals per year from bowhead whale (Balaena mysticetus) and spotted seal (Phoca largha). Samples would be measured for contaminant levels to determine marine mammal exposure to polybrominated diphenyl ethers and perfluorinated compounds. No live animals would be affected. The permit is valid through April 30, 2021.

File No. 19768 (Hildebrandt) authorizes the receipt of cell lines from other researchers and the creation of cell lines from animal tissues obtained from the stranding network under a regional authorization letter for scientific research purposes. Up to 15 cell lines would be received or created annually from certain cetacean species. These cell lines would be used to study the evolution of endogenous viruses (viruses that integrate into the genome of the host) using the DNA and RNA sequencing. No live animals would be affected. The permit is valid through May 31, 2021.

In compliance with the National Environmental Policy Act of 1969 (42 U.S.C. 4321 et seq.), a final determination has been made that the activities proposed are categorically excluded from the requirement to prepare an environmental assessment or environmental impact statement.

As required by the ESA, issuance of these permits was based on a finding that such permits: (1) Were applied for in good faith; (2) will not operate to the disadvantage of such endangered species; and (3) are consistent with the purposes and policies set forth in section 2 of the ESA.

Dated: June 6, 2016.
Julia Harrison,
Chief, Permits and Conservation Division, Office of Protected Resources, National Marine Fisheries Service.

[FR Doc. 2016-13714 Filed 6-9-16; 8:45 am]

BILLING CODE 3510-22-P